TENNESSEE VALLEY AUTHORITY

Environmental Impact Statement—Land Between the Lakes Public Use Plan, Lyon and Trigg Countries, Kentucky and Stewart County, Tennessee

AGENCY: Tennessee Valley Authority (TVA).

ACTION: Cancellation Notice.

SUMMARY: On March 1, 1995, TVA published in the Federal Register (60 FR 11161-11162) a Notice of Intent (NOI) to prepare an Environmental Impact Statement (EIS) on alternatives for public use at the Land Between The Lakes (LBL) National Recreation Area. On October 1, 1999, pursuant to the Land Between The Lakes Protection Act of 1998, LBL was established as a unit of the National Forest System and administrative responsibility was transferred from TVA to the U.S. Department of Agriculture. The 1995 NOI is hereby rescinded.

FOR FURTHER INFORMATION CONTACT: Harold M. Draper, NEPA Administration, Environmental Policy and Planning, Tennessee Valley Authority, 400 West Summit Hill Drive, Knoxville, Tennessee 37902-1499; telephone (865) 632-6889 or e-mail hmdraper@tva.gov.

Dated: May 5, 2000.
Kathryn J. Jackson,
Executive Vice President, River System Operations and Environment.

[FR Doc. 00-12483 Filed 5-17-00; 8:45 am]

BILLING CODE 8120-08-M